DEPARTMENT OF COMMERCE

National Oceanic and Atmospheric Administration

RIN 0648-XD820

New England Fishery Management Council; Public Meeting

AGENCY: National Marine Fisheries Service (NMFS), National Oceanic and Atmospheric Administration (NOAA), Commerce.

ACTION: Notice; public meeting.

SUMMARY: The New England Fishery Management Council (Council) is scheduling a public meeting of its Scallop Advisory Panel to consider actions affecting New England fisheries in the exclusive economic zone (EEZ). Recommendations from this group will be brought to the full Council for formal consideration and action, if appropriate.

DATES: This meeting will be held on Tuesday, March 31, 2015 at 10 a.m.

ADDRESSES: Meeting address: The meeting will be held at the Four Points Sheraton, 407 Squire Road, Revere, MA 02151; telephone: (781) 284-7200; fax: (781) 289-3176.

Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION: The Advisory Panel (AP) will begin work on development of Amendment 19 to the Scallop Fishery Management Plan (FMP). Amendment 19 will consider measures to address timing issues that inhibit implementation of fishery specifications at the start of the scallop fishing year (March 1). The AP will also discuss an issue that has been raised at previous meetings related to scallop fishing space in near shore areas and issues of differential catch rates for general category and limited access vessels. The Council may have a workshop later in the year to discuss these issues further. The AP will also provide input on preliminary scallop fishing maps being developed by the Northeast Regional Ocean Council (NROC). Finally, the AP will discuss potential research priorities for the 2016 Scallop Research Set-Aside announcement. This will be an initial discussion only, and final recommendations will be made at a future meeting. Other issues may be discussed.

Special Accommodations

This meeting is physically accessible to people with disabilities. Requests for sign language interpretation or other auxiliary aids should be directed to Thomas A. Nies, Executive Director, at (978) 465-0492, at least 5 days prior to the meeting date.

Authority: 16 U.S.C. 1801 et seq.

Dated: March 11, 2015.
Tracey L. Thompson,
Acting Deputy Director, Office of Sustainable Fisheries, National Marine Fisheries Service.

[FR Doc. 2015-05907 Filed 3-13-15; 8:45 am]

BILLING CODE 3510-22-P